DEPARTMENT OF ENERGY

Office of Energy Efficiency and Renewable Energy

SunShot Prize: Race to the Rooftop

AGENCY: Office of Energy Efficiency and Renewable Energy, Department of Energy.

ACTION: Notice; Release of competition rules and processes to compete.

SUMMARY: This notice announces the release of the SunShot Prize: Race to the Rooftop competition. This competition offers $10 million in prizes to those who can lower the non-hardware installation cost of rooftop solar energy systems.

DATES: Registration opened on September 12, 2012, and will run through October 31, 2014. Participants can submit Phase I materials through December 31, 2014, and Phase II materials through December 31, 2015.

ADDRESSES: Interested persons are encouraged to learn about the SunShot Prize: Race to the Rooftop competition rules at eere.energy.gov/solar/sunshot/prize.html. Teams that wish to enter the competition can register at eere.energy.gov/solar/sunshot/prize.html. Questions about the prize competition can be sent to:

Email: SunShot.Prize@ee.doe.gov.

Mail: Solar Energy Technologies Program, U.S. Department of Energy, 1000 Independence Ave. SW., Washington, DC 20585.

FOR FURTHER INFORMATION CONTACT: Minh Le, Solar Energy Technologies Program, U.S. Department of Energy, 1000 Independence Ave. SW., Washington, DC 20585. Email: SunShot.Prize@ee.doe.gov

SUPPLEMENTARY INFORMATION: The America COMPETES Reauthorization Act of 2010, Public Law 111-358, enacted January 4, 2011, authorizes, among other things, Federal agencies to issue competitions to stimulate innovations in technology, education, and science. The $10 million SunShot Prize: Race to the Rooftop competition challenges the ingenuity of America's businesses and communities to make it faster, easier, and cheaper to install rooftop solar energy systems. Successful competitors will deploy domestically and in two phases, at least 6,000 new rooftop photovoltaic (PV) installations at an average pre-subsidy non-hardware cost of $1 per watt. Winners will break this significant price barrier, considered to be unachievable a decade ago, and prove that they can repeatedly achieve a $1 per watt non-hardware cost using innovative, verifiable processes and business practices.

As required by the America COMPETES Reauthorization Act of 2010, the Secretary of Energy has approved this competition.

Today's notice announces the SunShot Prize and the release of prize rules.

Issued in Washington DC, on September 12, 2012.
Rachel Tronstein,
Deputy Director, SunShot Initiative, Energy Efficiency and Renewable Energy .

[FR Doc. 2012-23098 Filed 9-18-12; 8:45 am]

BILLING CODE 6450-01-P